DEPARTMENT OF COMMERCE

National Oceanic and Atmospheric Administration

Notice of Modifications for the GOES Data Collection Platform Radio Set (DCPRS) Certification Standards at 300 bps and 1200 bps

SUMMARY: NOAA is making a change to the certification standards for the transmitters that participate in the GOES Data Collection System (DCS). The primary purpose of this change is to enhance the flexibility of the system, to provide better messaging capabilities, additional system capacity, improve timing and frequency stability, and conform to the regulations for out-of-band emissions specified by the National Telecommunication and Information Administration (NTIA). The GOES DCS will operate under new certification procedures that will allow new data collection platforms to use a frequency channel with half the current bandwidth (.75 Hz), though existing platforms will continue to use frequency channels with 1.5 Hz bandwidth until suitable replacements are ascertained. The owners of the existing platforms are invited to upgrade their units as soon as possible. New data collection platforms will be assigned a narrow band channel in the restructured GOES DCS. These new certification standards may be reviewed on the NOAA Web site: http://noaasis.noaa.gov/DCS/docs/DCPR_CS2final.doc.

DATES: Start of service [October 1, 2009].

FOR FURTHER INFORMATION CONTACT: Comments may be provided to the NOAA GOES DCS Program Manager, at Kay.Metcalf@noaa.gov or you can contact her at 301-817-4558.

SUPPLEMENTARY INFORMATION: Since the advent of the Geostationary Operational Environmental Satellites (GOES) and the on-board transponder, environmental data from remote platforms has been collected and relayed in real time to federal and international environmental managers and scientists. Known as the GOES Data Collection System (DCS), this satellite transmission technology consists of over 20,000 Data Collection Platforms (DCPs), dedicated satellite receive and transmit capability, and ground/satellite processing and distribution equipment. Data collected from DCPs measures or monitors such varied parameters as rainfall, river stage levels, soil conditions, seismic or tsunami conditions, aircraft flight environment and fire conditions. These data are also used to verify and serve as “ground truth” for other types of remotely sensed data such as NEXRAD and satellite-derived precipitation estimates. DCS data provides fast, reliable information for flood, fire, tsunami and other disaster forecasts and warnings amounting to incalculable savings in lives and property damage.

This system provides critical support to the U.S. Corp of Engineers, U.S. Geological Survey, the Bureau of Land Management, the National Weather Service and other federal and state agencies to monitor and forecast the flood stages in the upper Mississippi Valley. Starting in 1975, the GOES DCS opened a vast new capability to acquire the needed data in real or near-real time. Many Federal Agencies started their own systems for collecting and telemetering their data for their own use. In the recent two decades and a half, these Federal Agencies have come together to improve the tools and the system for better collection, and to modernize the storage and dissemination of the in-situ observations to all the users who desired them. This GOES Data Collection System (DCS) has become the conduit through which remotely sensed observations, the life-blood of the Agencies' operations, must pass. The GOES DCS is now a critical Infrastructure for most of these Agencies, contributing to billions of dollars in damages being averted through flood control measures.

As the demand for remotely sensed in-situ data has increased, certain segments of the system have been threatened with saturation. The Federal Agencies as users, and the National Environmental Satellite, Data, and Information Service (NESDIS) as the system operator, consistently strive to improve the capabilities of the GOES DCS.

Mary E. Kicza,
Assistant Administrator for Satellite and Information Services.

[FR Doc. E9-19500 Filed 8-13-09; 8:45 am]

BILLING CODE P